NATIONAL SCIENCE FOUNDATION

Advisory Panel for Physiology and Ethology; Notice of Meeting

In accordance with the Federal Advisory Committee Act (Pub. L. 93-463, as amended), the National Science Foundation (NSF) announces the following meeting.

Name: Advisory Panel for Physiology and Ethology (1160).

Date and Time: April 27 and 28, 2000, 8:30 a.m.-6 p.m.

Place: NSF, Room 380, 4201 Wilson Blvd., Arlington, Virginia.

Type of Meeting: Part-Open.

Contact Person: Dr. Judith Verbeke, Program Director, Integrative Animal Biology, Division of Integrative Biology and Neuroscience, Room 685N, National Science Foundation, 4201 Wilson Boulevard, Arlington, VA 22230, Telephone: (703) 306-1421.

Purpose of Meeting: To provide advice and recommendations concerning proposals submitted to NSF for financial support.

Minutes: May be obtained from the contact person listed above.

Agenda: Open Session: April 28, 2000, 1 p.m. to 2 p.m.—discussion on research trends, opportunities and assessment procedures in Integrative Animal Biology.

Closed Session: April 27, 2000, 8:30 a.m. to 6 p.m.; April 28, 2000, 8:30 a.m. to 1 p.m., and 2 p.m. to 6 p.m. To review and evaluate Integrative Animal Biology proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: March 16, 2000.
Karen J. York,
Committee Meeting Officer.

[FR Doc. 00-6945 Filed 3-20-00; 8:45 am]

BILLING CODE 7555-01-M